DEPARTMENT OF ENERGY

Federal Energy Regulatory Commission

[Docket No. RP00-199-000]

Reliant Energy Gas Transmission Company; Notice of Rescheduling of Technical Conference

April 26, 2000.

In the Commission's order issued on March 31, 2000,¹ the Commission directed that a technical conference be held to address issues raised by the filing.

¹ 90 FERC ¶ 61,341 (2000).

Take notice that the technical conference has been rescheduled for Tuesday, May 16, 2000, at 9:30 am, in a room to be designated at the offices of the Federal Energy Regulatory Commission, 888 First Street, NE, Washington, DC 20426.

All interested parties and Staff are permitted to attend.

David P. Boergers,
Secretary.

[FR Doc. 00-10863 Filed 5-1-00; 8:45 am]

BILLING CODE 6717-01-M